DEPARTMENT OF THE INTERIOR

Bureau of Land Management

[NM-930-03-2824-PG-YY99]

Notice of Intent To Prepare a Fire and Fuels Management Plan and Amend Resource Management Plans in New Mexico and Texas

AGENCY: Bureau of Land Management, Interior.

ACTION: Notice of intent to prepare a Fire and Fuels Management Plan Amendment and Environmental Assessment (EA) for Nine Land Use Plans in New Mexico and Texas.

SUMMARY: This document provides notice that the BLM, New Mexico State Office, intends to prepare a Fire and Fuels Management Plan Amendment with an associated EA for BLM lands in New Mexico and Texas. This Plan Amendment will amend nine Resource Management Plans (Carlsbad 1988, Farmington 2003, Mimbres 1993, Rio Puerco 1986, Roswell 1997, Socorro 1989, Taos 1988, Texas 1996, White Sands 1986) in eight Field Offices: Albuquerque, Amarillo, Carlsbad, Farmington, Las Cruces, Roswell, Socorro, and Taos. The purpose of the amendment is to incorporate current Fire Management Policy into Resource Management Plans, to restore fire as an integral part of fire-adapted ecosystems in order to meet resource management objectives, to improve the protection of human life and property through the reduction of hazardous fuels, and to establish consistent methods of managing fire and fuels on BLM-administered public lands in New Mexico and Texas.

This planning activity encompasses approximately 12.8 million acres public lands within the states of New Mexico and Texas. The planning area includes all surface lands managed by BLM in New Mexico and Texas, including El Malpais National Conservation area and Kasha-Katuwe Tent Rocks National Monument, but not lands for which BLM only administers the sub-surface, or mineral, estate. A collaborative process will be used to involve other Federal agencies, Native American tribes, conservation groups, recreationists, the public, and other stakeholders throughout the planning process to ensure that local, regional, and national issues and concerns are addressed.

This Plan Amendment will analyze fires and fuels management actions and their impacts on the human environment for public lands administered by the eight New Mexico and Texas BLM Field Offices in one document in order to ensure consistency and collaboration among the offices and the interested public.

DATES: The BLM is now soliciting written comments on issues and concerns that should be considered during the development and analysis of the Proposed Fire and Fuels Management Plan Amendment. While written comments will be accepted throughout the planning process, to be most useful, comments should be received on or before the end of the comment period at the addresses listed below. The comment period will last 60 days from the publication of this notice in the Federal Register. To ensure local community participation and input, public workshops will be held during this comment period in Albuquerque, Amarillo, Carlsbad, Farmington, Las Cruces, Roswell, Socorro, and Taos. Specific dates and locations for public participation will be published in local papers, broadcast on local community calendars, and posted on the BLM New Mexico/Oklahoma/Kansas/Texas Web site (http://www.nm.blm.gov) at a later date but not less than 15 days prior to the meeting.

ADDRESSES: If you wish to comment, request additional information, or request to be put on the mailing list, you may do so by any of several methods. You may mail, hand deliver, or call your comments or requests to: Signa Larralde, Project Manager, Bureau of Land Management, New Mexico State Office, 1474 Rodeo Road, Santa Fe, New Mexico 87505, (505) 438-7637. You may also comment via a comment form that will be posted on the BLM New Mexico/Oklahoma/Kansas/Texas Web site (http://www.nm.blm.gov).

Comments, including names and street addresses of respondents, will be available for public review at the BLM New Mexico State Office during regular business hours 7:45 a.m. to 4:30 p.m., Monday through Friday, except holidays, and may be published as part of the EA. Individual respondents may request confidentiality. If you wish to withhold your name or street address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

The current RMPs and all other documents relevant to this planning process are available for public review at the New Mexico State Office, 1474 Rodeo Road, Santa Fe, New Mexico 87505, Monday through Friday (excluding legal holidays), from 7:45 a.m. to 4:30 p.m.

FOR FURTHER INFORMATION CONTACT: Signa Larralde, Project Manager, (505) 438-7637, or John Selkirk, Fire Planner, (505) 438-7431, New Mexico State Office, 1474 Rodeo Road, Santa Fe, New Mexico 87505.

SUPPLEMENTARY INFORMATION: The proposed Plan Amendment will: (1) Establish Field Office-wide objectives for fire and fuels management; (2) delineate fire management areas; (3) identify broad vegetation treatments; (4) identify general restrictions on fire management practices; and (5) determine the criteria by which the broad treatment areas can be changed. BLM has identified general issues for this planning effort, including: protection of human life; protection of property; protection of natural/cultural resources; integration of fire and resource management; and protection of air quality. These issues, along with others that may be identified through public participation, will be considered during the planning process. BLM has identified the following preliminary planning criteria to guide the planning process: compliance with all legal mandates of the Federal Land Policy and Management Act of 1976, the National Environmental Policy Act of 1969, the Federal Advisory Committee Act, the Administrative Procedures Act, and the BLM planning regulations in 43 CFR part 1600, as well as consistency with Fire Plans of other agencies and State and local jurisdictions. Additional planning criteria may be identified during the comment period.

Existing information will be used to develop the Plan Amendment and EA. An interdisciplinary approach will be used to develop the Plan Amendment in order to consider the variety of resource issues and concerns identified. Disciplines involved in the planning process will include but are not limited to fire and fuels management, rangeland management, outdoor recreation management, archaeology, wildlife management, wilderness management, hydrology, soils science, sociology, and economics. Selectable alternatives must contribute to the achievement of New Mexico BLM public and land standards, the purpose of the Proposed Plan Amendment, and protection of communities at risk from catastrophic wildfire.

The planning process will utilize a collaborative approach. This will allow the public, Tribes, State and Federal agencies, local elected officials, and BLM specialists to participate in identifying issues and developing and analyzing alternatives. In addition to the initial public comment period and workshops, the public will also be invited, through a Federal Register notice, local newspapers, and mailings, to review the proposed Plan Amendment and provide comments. The Governors of New Mexico and Texas, County Commissioners for counties in New Mexico and Potter County, Texas, and potentially affected members of the public will be notified of all meetings and comment periods.

Agency representatives and interested persons are invited to visit with BLM officials at any time during the planning process.

Dated: January 31, 2003.
Linda S.C. Rundell,
New Mexico State Director.

[FR Doc. 03-11250 Filed 5-6-03; 8:45 am]

BILLING CODE 4310-FB-P